DEPARTMENT OF COMMERCE

Census Bureau

Census 2000 Test Program Supplement

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before March 27, 2000.

ADDRESSES: Direct all written comments to Linda Engelmeier, Departmental Forms Clearance Officer, Department of Commerce, Room 5027, 14th and Constitution Avenue, NW, Washington, DC 20230 (or via the Internet at LEngelme@doc.gov).

FOR FURTHER INFORMATION CONTACT: Requests for additional information or copies of the information collection instrument(s) and instructions should be directed to Keith Bennett, Bureau of the Census, Room BH114-2, Washington, DC 20233; (301) 457-4173.

SUPPLEMENTARY INFORMATION:

I. Abstract

The Census Bureau plans to test several methodologies, techniques, and strategies during Census 2000. It is important to examine innovative ideas in the environment for which they are intended to accurately measure effectiveness and feasibility. The Census Bureau received Office of Management and Budget (OMB) approval to conduct four separate tests which are collectively referred to as The Census 2000 Test Program. They are the Alternative Questionnaire Experiment in 2000 (AQE2000), the Administrative Records Census Experiment in 2000 (AREX2000), the Social Security Number [SSN], Privacy Attitudes, and Notification (SPAN) experiment, and the Response Mode and Incentive Experiment (RMIE). We plan to add supplemental collections to two of these tests.

RMIE Internet Usage Survey

The RMIE will determine what effect the availability of different response modes combined with an incentive have on a sample of Census 2000 short form respondents. Sample households will receive an invitation in their census short-form mail package inviting them to respond by one of three experimental response modes rather than by mail, including a computer assisted telephone interview (CATI) with a live operator, an interactive voice response system where a respondent is prompted through the short form by machine, and the census Internet questionnaire. Of those households that receive an invitation, some will be given a calling card worth 30 minutes of long distance service as incentive.

We plan to conduct phone interviews with a sub sample of the RMIE households invited to respond via the Internet, but who chose to respond by mail. For those who received no incentive, we will ask whether they had access to the Internet. If they did have access, we will ask why they did not use the Internet and ascertain whether an incentive would have elicited a response. If they did not have access to the Internet, we will ask if they would have responded if they had access. For those who received the incentive, we will ask whether they had access to the Internet. If they had no access they too will be asked whether they would have responded if they had access. If they had access, we will ask why they did not use the Internet. In addition, this panel will be asked a subset of questions about the incentive calling card they received. The interview will determine whether the respondents were aware of the incentive. We will ask those who were aware of the incentive why they did not take the offer, whether a larger incentive might have elicited a response, and whether they realized that the incentive was made operative only with the Internet response.

AQE2000 Residence Rules Reinterview

The AQE2000 will test effectiveness of an alternative presentation format of residence rules in the decennial census. An accurate and complete count in Census 2000 requires that all people should be enumerated once and only once and in the correct location. Respondents make the determination of who is counted as residing within their homes and include these people on their census form. The appropriateness of these assignments is associated with the effectiveness and clarity of the census residence instructions that provide the respondent with guidelines about who should be included on the census form and who should be excluded.

We plan to reinterview a sub sample of the AQE2000 sample households that returned the experimental (alternate version of the presentation format) and control (current versions of the presentation format) short-forms and provided telephone contact information. The reinterview will be conducted by telephone with the person in the household who signed the census form. The purpose of this reinterview is to test the effectiveness of the different presentation formats identified in the AQE2000. Topics addressed in the reinterview include listing of all household members (including potentially omitted persons), other locations where household members may reside, and the estimates of time spent in each of these locations. Other issues to be explored include complex living arrangements, respondents' ability to comprehend the residence rules, and possible sources of misconceptions stemming from experimental or control versions of the presentation formats.

II. Method of Collection

For the RMIE Internet Usage Survey, data will be collected by means of a computer assisted telephone interview. For the AQE2000 Residence Rules Reinterview, the reinterview will be conducted by telephone and recorded on paper.

III. Data

OMB Number: 0607-0862.

Form Numbers: None.

Type of Review: Regular submission.

Affected Public: Individuals or households.

Estimated Number of Respondents: Internet Usage Survey—2,160; Residence Rules Interview—3,000.

Estimated Time Per Response: Internet Usage Survey—5 minutes; Residence Rules Reinterview—20 min.

Estimated Total Annual Burden Hours: Internet Usage Survey—180 hours; Residence Rules Reinterview—1,000 hours; Total = 1,180 hours.

Estimated Total Annual Cost: None.

Respondent's Obligation: Both are voluntary data collections.

IV. Request for Comments:

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 21, 2000,
Linda Engelmeier,
Departmental Forms Clearance Officer, Office of the Chief Information Officer.

[FR Doc. 00-1915 Filed 1-26-00; 8:45 am]

BILLING CODE 3510-07-P